DEPARTMENT OF HOUSING AND URBAN DEVELOPMENT

[Docket No. 5030-FA-06, FR-5100-FA-06]

Announcement of Funding Awards for the Self-Help Homeownership Opportunity Program Fiscal Years 2006 and 2007

AGENCY: Office of the Assistant Secretary for Community Planning and Development, HUD.

ACTION: Notice of funding awards.

SUMMARY: In accordance with section 102 (a)(4)(C) of the Department of Housing and Urban Development Reform Act of 1989, this announcement notifies the public of funding decisions made by the Department in competitions for funding under the Notices of Funding Availability (NOFA) for the Self-Help Homeownership Opportunity Program (SHOP). This announcement contains the names of the awardees and the amounts of the awards made available by HUD.

FOR FURTHER INFORMATION CONTACT: Clifford Taffet, Director, Office of Affordable Housing Programs, Office of Community Planning and Development, 451 Seventh Street, SW., Room 7164, Washington, DC 20410-7000; telephone (202) 402-4589 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Fiscal Years 2006 and 2007 Self-Help Homeownership Opportunity Program competitions were designed to facilitate and encourage innovative homeownership opportunities through self-help housing where the homebuyer would contribute a significant amount of sweat-equity toward the construction of the new dwelling. Applicants were required to be a national or regional nonprofit organization or consortium.

The competitions were announced in the SuperNOFAs published May 8, 2006 (71 FR 11962) for the Fiscal Year 2006 competition and March 13, 2007 (72 FR 11649) for the Fiscal Year 2007 competition. The NOFAs allowed for $19,800,000 for SHOP for the Fiscal Year 2006 competition and $18,677,043 for SHOP for the Fiscal Year 2007 competition. Applications were rated and selected for funding on the basis of selection criteria contained in that Notice.

For the Fiscal Year 2006 competition, a total of $19,800,000 was awarded to three grantees nationwide. For the Fiscal Year 2007 competition, a total of $18,677,043 was awarded to four grantees nationwide.

In accordance with section 102(a)(4)(C) of the Department of Housing and Urban Development Reform Act of 1989 (103 Stat. 1987. 42 U.S.C. 3545), the Department is publishing the grantees and amounts of the awards in Appendix A to this document.

Dated: December 20, 2007.
William H. Eargle,
Deputy Assistant Secretary for Operations, Office of Community Planning and Development.

Fiscal Year 2006 Funding Awards for Self-Help Homeownership Opportunity Programs
Recipient | State | Amount
Community Frameworks | WA | $5,271,000
Habitat for Humanity International | GA | 8,639,000
Housing Assistance Council | DC | 5,890,000
Total |  | 19,800,000

Fiscal Year 2007 Funding Awards for Self-Help Homeownership Opportunity Programs
Recipient | State | Amount
Community Frameworks | WA | $2,801,556
Habitat for Humanity International | GA | 8,404,670
Housing Assistance Council | DC | 5,229,572
PPEP Microbusiness and Housing Development Corporation | AZ | 2,241,245
Total |  | 18,677,043

[FR Doc. E8-362 Filed 1-10-08; 8:45 am]

BILLING CODE 4210-67-P